FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 010071-048.

Agreement Name: Cruise Lines International Association.

Parties: Aida Cruises, American Crusine Lines, Inc., Atlas Ocean Voyages; Australian Pacific Touring Pty Ltd; Azamara Cruises; Carnival Cruise Lines; Celebrity Cruises, Inc.; Costa Cruise Lines; Crystal Cruises; Cunard Line; Disney Cruise Line; Emerald Cruises; Explora SA; Hapag-Lloyd Kreuzfahrten GmbH; Heritage Expeditions; Holland America Line; Marella Cruise; MSC Cruises; NCL Corporation; Oceania Cruises; P&O Cruises; Pearl Seas Cruises; Ponant Yacht Cruises & Expeditions; Princess Cruises; Regent Seves Seas Cruises; Royal Caribbean International; Sea Cloud Cruises GmbH; Seabourn Cruise Line; Seadream Yacht Club, Ltd.; Star Cruises (HK) Limited; Swan Hellenic; Virgin Voyages; and Windstar Cruises.

Filing Party: Marissa Rivera, Cruise Lines International Association.

Synopsis: The amendment updates the membership of the agreement and revises the agreement to divide Global Members between Global Holding Members and Global Operating Members and specifies the difference between them.

Proposed Effective Date: 6/11/2023.

Location: https://www2.fmc.gov/FMC.Agreements.Web/Public/AgreementHistory/999.

Dated: April 28, 2023.
JoAnne O'Bryant,
Program Analyst.

[FR Doc. 2023-09387 Filed 5-2-23; 8:45 am]

BILLING CODE 6730-02-P